DEPARTMENT OF LABOR

Employment and Training Administration

[TA-W-60,126]

Michelin North America Inc., BF Goodrich Tire Manufacturing, Opelika, AL; Notice of Revised Determination on Reconsideration

By application dated November 1, 2006, a company official requested administrative reconsideration of the Department of Labor's Notice of Negative Determination Regarding Eligibility to Apply for Worker Adjustment Assistance, applicable to workers and former workers of the subject firm. The Notice of Affirmative Determination Regarding Application for Reconsideration was issued on November 15, 2006 and published in the Federal Register on November 24, 2006 (71 FR 67917).

The initial determination was based on the Department's finding that the subject firm did not separate or threaten to separate a significant number or proportion of workers as required by the Trade Act of 1974. The subject workers produce passenger and light truck tires and are not separately identifiable by product line.

Based on new information provided by the subject firm during the reconsideration investigation, the Department determined that, during the relevant period, a significant number or proportion of the workers at the subject firm was separated.

The Department further determines that the subject firm's sales and production of tires declined absolutely during the relevant period.

The subject firm's reliance on imported tires increased during the same period that the subject firm's tire production decreased.

In accordance with Section 246 the Trade Act of 1974 (26 U.S.C. 2813), as amended, the Department of Labor herein presents the results of its investigation regarding certification of eligibility to apply for Alternative Trade Adjustment Assistance (ATAA) for older workers.

In order for the Department to issue a certification of eligibility to apply for ATAA, the group eligibility requirements of Section 246 of the Trade Act must be met. The Department has determined in this case that the requirements of Section 246 have been met.

A significant number of workers at the firm are age 50 or over and possess skills that are not easily transferable. Competitive conditions within the industry are adverse.

Conclusion

After careful review of the information obtained in the reconsideration investigation, I determine that workers of Michelin North America Inc., BF Goodrich Tire Manufacturing, Opelika, Alabama qualify as adversely affected primary workers under Section 222 of the Trade Act of 1974, as amended. In accordance with the provisions of the Act, I make the following certification:

”All workers of Michelin North America Inc., BF Goodrich Tire Manufacturing, Opelika, Alabama, who became totally or partially separated from employment on or after September 20, 2005 through two years from the date of this certification, are eligible to apply for adjustment assistance under Section 223 of the Trade Act of 1974, and are eligible to apply for alternative trade adjustment assistance under Section 246 of the Trade Act of 1974.”

Signed in Washington, DC this 18th day of December, 2006.
Linda G. Poole,
Certifying Officer, Division of Trade Adjustment Assistance.

[FR Doc. E6-22131 Filed 12-26-06; 8:45 am]

BILLING CODE 4510-30-P